DEPARTMENT OF EDUCATION

Reopening; Applications for New Awards; Personnel Development To Improve Services and Results for Children With Disabilities—National Center on Historically Black Colleges and Universities, Tribally Controlled Colleges and Universities, and Other Minority Serving Institutions To Diversify the Workforce Serving Children With Disabilities

AGENCY: Office of Special Education Programs, Department of Education.

ACTION: Notice.

SUMMARY: On March 19, 2024, we published in the Federal Register a notice inviting applications (NIA) for the fiscal year (FY) 2024 National Center on Historically Black Colleges and Universities, Tribally Controlled Colleges and Universities, and Other Minority Serving Institutions to Diversify the Workforce Serving Children with Disabilities competition. The NIA established a deadline of May 15, 2024, for the transmittal of applications. This notice reopens the competition until August 12, 2024 and extends the date of intergovernmental review until August 26, 2024.

DATES:

Deadline for Transmittal of Applications: August 12, 2024.

Deadline for Intergovernmental Review: August 26, 2024.

FOR FURTHER INFORMATION CONTACT: Tracie Dickson, U.S. Department of Education, 400 Maryland Avenue SW, Room 4A10, Washington, DC 20202. Telephone: (202) 987-0145. Email: tracie.dickson@ed.gov.

If you are deaf, hard of hearing, or have a speech disability and wish to access telecommunications relay services, please dial 7-1-1.

SUPPLEMENTARY INFORMATION:

On March 19, 2024, we published in the Federal Register (89 FR 19572) the NIA for the National Center on Historically Black Colleges and Universities, Tribally Controlled Colleges and Universities, and Other Minority Serving Institutions to Diversify the Workforce Serving Children with Disabilities. Under the NIA, applications were due on May 15, 2024. No applications received in response to the NIA were funded because the applicants did not adequately address the selection criteria for the competition and did not have the necessary partners in place to adequately carryout the technical assistance described in the NIA. Therefore, we are reopening the competition to allow applicants to submit or resubmit applications that meet the requirements in the NIA, in order to ensure that Historically Black Colleges and Universities, Tribally Controlled Colleges and Universities, and other Minority Serving Institutions that offer high-quality degree or certification programs in early intervention, early childhood special education, special education, or related services receive the technical assistance necessary to implement high-quality personnel preparation programs.

OSEP will host a virtual office hours session for interested applicants in early July. Please see https://www2.ed.gov/fund/grant/apply/osep/new-osep-grants.html for the pre-recorded webinar and further information on the office hours.

Applicants that have already submitted applications under the FY 2024 competition are encouraged to review their applications and determine whether they have met all eligibility requirements and adequately addressed the selection criteria in the NIA and the application package, which is available at www.grants.gov.

Applications that were previously submitted for this competition, including those deemed ineligible for review, must be resubmitted to be considered for review.

Eligibility: The extended application deadline applies to all eligible applicants under the National Center on Historically Black Colleges and Universities, Tribally Controlled Colleges and Universities, and Other Minority Serving Institutions to Diversify the Workforce Serving Children with Disabilities competition. An eligible applicant for this competition is defined in the NIA.

Note: All information in the NIA remains the same, except for the extended date for the transmittal of applications and the deadline for intergovernmental review.

Assistance Listing Number: 84.325B.

Program Authority: 20 U.S.C. 1462 and 1481.

Accessible Format: On request to the program contact person listed under FOR FURTHER INFORMATION CONTACT, individuals with disabilities can obtain this document, the NIA, and a copy of the application package in an accessible format. The Department will provide the requestor with an accessible format that may include Rich Text Format (RTF) or text format (txt), a thumb drive, an MP3 file, braille, large print, audiotape, compact disc, or other accessible format.

Electronic Access to This Document: The official version of this document is the document published in the Federal Register. You may access the official edition of the Federal Register and the Code of Federal Regulations at www.govinfo.gov. At this site you can view this document, as well as all other Department documents published in the Federal Register, in text or Portable Document Format (PDF). To use PDF you must have Adobe Acrobat Reader, which is available free at the site.

You may also access Department documents published in the Federal Register by using the article search feature at www.federalregister.gov. Specifically, through the advanced search feature at this site, you can limit your search to documents published by the Department.

Glenna Wright-Gallo,
Assistant Secretary, Office of Special Education and Rehabilitative Services.

[FR Doc. 2024-13966 Filed 6-25-24; 8:45 am]

BILLING CODE 4000-01-P